Title 3—

The President

Presidential Determination No. 2007-22 of June 5, 2007

Partial Resumption of Travel to Lebanon To Promote Peace and Security

Memorandum for the Secretary of Transportation

By virtue of the authority vested in me by 49 U.S.C. 40106(b) and for the purpose of promoting peace and security in Lebanon, I hereby determine that the prohibition of transportation services to Lebanon established by Presidential Determination 85-14 of July 1, 1985, as amended by Presidential Determination 92-41 of August 17, 1992, and Presidential Determination 98-32 of June 19, 1998, is hereby further amended to permit U.S. air carriers under contract to the United States Government to engage in foreign air transportation to and from Lebanon of passengers, including U.S. and non-U.S. citizens, and their accompanying baggage; of goods for humanitarian purposes; and of any other cargo or materiel.

All other prohibitions set forth in the above-referenced Presidential determinations remain in effect.

You are directed to implement this determination immediately.

You are authorized and directed to publish this determination in the Federal Register.

[FR Doc. 07-2886

Filed 6-7-07; 8:45 am]

Billing code 4910-62-M